DEPARTMENT OF VETERANS AFFAIRS

[OMB Control No. 2900-0029]

Agency Information Collection (Offer To Purchase and Contract of Sale) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before August 22, 2011.

ADDRESSES: Submit written comments on the collection of information through http://www.Regulations.gov or to VA's OMB Desk Officer, OMB Human Resources and Housing Branch, New Executive Office Building, Room 10235, Washington, DC 20503, (202) 395-7316. Please refer to “OMB Control No. 2900-0029” in any correspondence.

FOR FURTHER INFORMATION CONTACT: Denise McLamb, Enterprise Records Service (005R1B), Department of Veterans Affairs, 810 Vermont Avenue, NW., Washington, DC 20420, (202) 461-7485, fax (202) 461-0966 or e-mail denise.mclamb@va.gov. Please refer to “OMB Control No. 2900-0029.”

SUPPLEMENTARY INFORMATION:

Titles

a. Offer to Purchase and Contract of Sale, VA Form 26-6705.

b. Credit Statement of Prospective Purchaser, VA Form 26-6705b.

c. Addendum to VA Form 26-6705 Offer to Purchase and Contract of Sale, VA Form 26-6705d.

OMB Control Number: 2900-0029.

Type of Review: Extension of a currently approved collection.

Abstract

a. VA Form 26-6705 is completed by private sector sales broker to submit an offer to purchase VA-acquired property on behalf of a prospective buyer. VA Form 26-6705 becomes a contract of sale if VA accepts the offer to purchase. It serves as a receipt for the prospective buyer for his/her earnest money deposit, describes the terms of sale, and eliminates the need for separate transmittal of a purchase offer.

b. VA Form 26-6705b is used as a credit application to determine the prospective buyer's creditworthiness in instances when the prospective buyer seeks VA vendee financing. In such sales, the offer to purchase will not be accepted until the buyer's income and credit history have been verified and a loan analysis has been completed.

c. VA Form 26-6705d is an addendum to VA Form 26-6705 for use in the state of Virginia. The form requires the buyer to be informed of the State's law at or prior to closing the transaction.

An agency may not conduct or sponsor, and a person is not required to respond to a collection of information unless it displays a currently valid OMB control number. The Federal Register Notice with a 60-day comment period soliciting comments on this collection of information was published on May 11, 2011, at page 27380.

Affected Public: Individuals or households.

Estimated Annual Burden

a. VA Form 26-6705—10,000 hours.

b. VA Form 26-6705b—7,333 hours.

c. VA Form 26-6705d—125 hours.

Estimated Average Burden per Respondent

a. VA Form 26-6705—20 minutes.

b. VA Form 26-6705b—20 minutes.

c. VA Form 26-6705d—5 minutes.

Frequency of Response: On occasion.

Estimated Number of Total Respondents

a. VA Form 26-6705—30,000.

b. VA Form 26-6705b—22,000.

c. VA Form 26-6705d—1,500.

Dated: July 19, 2011.
By direction of the Secretary.
Denise McLamb,
Program Analyst, Enterprise Records Service.

[FR Doc. 2011-18548 Filed 7-21-11; 8:45 am]

BILLING CODE 8320-01-P